DEPARTMENT OF TRANSPORTATION

Federal Aviation Administration

14 CFR Part 71

[Docket No. FAA-2022-1395 Airspace Docket No. 22-ACE-10]

RIN 2120-AA66

Proposed Amendment of Multiple Air Traffic Service (ATS) Routes and Revocation of a VOR Federal Airway in the Vicinity of Wolbach, NE

AGENCY: Federal Aviation Administration (FAA), DOT.

ACTION: Notice of proposed rulemaking (NPRM).

SUMMARY: This action proposes to amend Jet Routes J-10, J-84, J-100, J-128, J-144, and J-197, VHF Omnidirectional Range (VOR) Federal airways V-172 and V-380, and Area Navigation (RNAV) route T-288; and revoke VOR Federal airway V-219. The FAA is proposing this action due to the planned decommissioning of the VOR portion of the Wolbach, NE (OBH), VOR/Tactical Air Navigation (VORTAC) navigational aid (NAVAID). The Wolbach VOR is being decommissioned in support of the FAA's VOR Minimum Operational Network (MON) program.

DATES: Comments must be received on or before January 6, 2023.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2022-1395 Airspace Docket No. 22-ACE-10 at the beginning of your comments. You may also submit comments through the internet at www.regulations.gov.

FAA Order JO 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the ATS route structure as necessary to preserve the safe and efficient flow of air traffic within the National Airspace System.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2022-1395 Airspace Docket No. 22-ACE-10) and be submitted in triplicate to the Docket Management Facility (see ADDRESSES section for address and phone number). You may also submit comments through the internet at www.regulations.gov.

Commenters wishing the FAA to acknowledge receipt of their comments on this action must submit with those comments a self-addressed, stamped postcard on which the following statement is made: “Comments to FAA Docket No. FAA-2022-1395 Airspace Docket No. 22-ACE-10.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at www.regulations.gov. Recently published rulemaking documents can also be accessed through the FAA's web page at www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Operations Support Group, Central Service Center, Federal Aviation Administration, 10101 Hillwood Parkway, Fort Worth, TX, 76177.

Availability and Summary of Documents for Incorporation by Reference

This document proposes to amend FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

Background

The FAA is planning to decommission the Wolbach, NE, VOR in June 2023. The Wolbach VOR was one of the candidate VORs identified for discontinuance by the FAA's VOR MON program and listed in the Final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082.

Although the VOR portion of the Wolbach VORTAC is planned for decommissioning, the co-located Distance Measuring Equipment (DME) portion of the NAVAID is being retained to support NextGen PBN flight procedure requirements.

The Air Traffic Service (ATS) routes effected by the Wolbach VOR decommissioning are Jet Routes J-10, J-84, J-100, J-128, J-144, and J-197; VOR Federal airways V-172, V-219, and V-380; and RNAV route T-288. With the planned decommissioning of the Wolbach VOR, the remaining ground-based NAVAID coverage in the area is insufficient to enable the continuity of the affected ATS routes. As such, proposed modifications to J-10, J-84, J-100, and J-128 would result in a gap being created in the ATS routes; to J-144, J-197, V-172, and V-380 would result in the ATS routes being shortened; to T-288 would result in the Wolbach VOR/DME end point being changed; and to V-219 would result in the airway being revoked.

To overcome the proposed modifications to the affected ATS routes, instrument flight rules (IFR) traffic in the high altitude enroute structure could use portions of Jet Routes J-44, J-60, J-94, J-114, J-146, J-148, and J-151 for conventional navigation or RNAV routes Q-92, Q-114, Q-122, and Q-136 for Global Positioning Satellite (GPS) navigation for properly equipped aircraft. IFR traffic in the low altitude enroute structure could use portions of VOR Federal airways V-6, V-8, V-71, V-80, and V-148 for conventional navigation or RNAV routes T-286, T-288, T-302, and T-413 for GPS navigation for properly equipped aircraft. Additionally, pilots equipped with RNAV capabilities could also navigate point to point using the existing NAVAIDs and fixes that would remain in place to support continued operations though the affected area. Visual flight rules (VFR) pilots who elect to navigate via the affected ATS routes could also take advantage of the adjacent ATS routes or ATC services listed previously. Lastly, IFR and VFR aircraft may request and receive air traffic control (ATC) radar vectors to fly around or through the affected area.

Further, RNAV route T-288 would be amended to change the Wolbach VORTAC route end point to a new route end point located near the Wolbach VORTAC. This T-288 amendment action would be aimed at retaining the safety and efficiency of the route while minimizing impact to the RNAV route's structure.

The Proposal

The FAA is proposing an amendment to 14 CFR part 71 to amend Jet Routes J-10, J-84, J-100, J-128, J-144, and J-197, VHF Omnidirectional Range (VOR) Federal airways V-172 and V-380, and Area Navigation (RNAV) route T-288; and revoke VOR Federal airway V-219 due to the planned decommissioning of the VOR portion of the Wolbach, NE, VORTAC. The proposed ATS route actions are described below.

J-10: J-10 currently extends between the Los Angeles, CA, VORTAC and the Iowa City, IA, VOR/Distance Measuring Equipment (VOR/DME). The FAA proposes to remove the route segment overlying the Wolbach VORTAC between the North Platte, NE, VOR/DME and the Des Moines, IA, VORTAC. As amended, the route would extend between the Los Angeles VORTAC and the North Platte VOR/DME, and between the Des Moines VORTAC and the Iowa City VOR/DME.

J-84: J-84 currently extends between the Oakland, CA, VOR/DME and the Danville, IL, VORTAC. The FAA proposes to remove the route segment overlying the Wolbach VORTAC between the Sidney, NE, VOR/DME and the Dubuque, IA, VORTAC. As amended, the route would extend between the Oakland VOR/DME and the Sidney VOR/DME, and between the Dubuque VORTAC and the Danville VORTAC.

J-100: J-100 currently extends between the Los Angeles, CA, VORTAC and the Northbrook, IL, VORTAC. The FAA proposes to remove the route segment overlying the Wolbach VORTAC between the Sidney, NE, VOR/DME and the Dubuque, IA, VORTAC. As amended, the route would extend between the Los Angeles VORTAC and the Sidney VOR/DME, and between the Dubuque VORTAC and the Northbrook VORTAC.

J-128: J-128 currently extends between the Los Angeles, CA, VORTAC and the Northbrook, IL, VORTAC. The FAA proposes to remove the route segment overlying the Wolbach VORTAC between the Hayes Center, NE, VORTAC and the Dubuque, IA, VORTAC. As amended, the route would extend between the Los Angeles VORTAC and the Hayes Center VORTAC, and between the Dubuque VORTAC and the Northbrook VORTAC.

J-144: J-144 currently extends between the Wolbach, NE, VORTAC and the Dubuque, IA, VORTAC. The FAA proposes to remove the route segment overlying the Wolbach VORTAC between the Wolbach VORTAC and the Des Moines, IA, VORTAC. As amended, the route would extend between the Des Moines VORTAC and the Dubuque VORTAC.

J-197: J-197 currently extends between the Dove Creek, CO, VORTAC and the Sioux Falls, SD, VORTAC. The FAA proposes to remove the route segment overlying the Wolbach VORTAC between the Goodland, KS, VORTAC and Sioux Falls, SD, VORTAC. As amended, the route would extend between the Dove Creek VORTAC and the Goodland VORTAC.

V-172: V-172 currently extends between the North Platte, NE, VOR/DME and the DuPage, IL, VOR/DME. The FAA proposes to remove the airway segment overlying the Wolbach VORTAC between the North Platte, NE, VOR/DME and the Columbus, NE, VOR/DME. As amended, the airway would extend between the Columbus VOR/DME and the DuPage VOR/DME.

V-219: V-219 currently extends between the Hayes Center, NE, VORTAC and the Norfolk, NE, VOR/DME. The FAA proposes to remove the airway in its entirety.

V-380: V-380 currently extends between the O'Neill, NE, VORTAC and the Mankato, KS, VORTAC. The airspace within the O'Neill Military Operations Area (MOA) is excluded when the MOA is activated by Notice to Air Missions (NOTAM). The FAA proposes to remove the airway segment overlying the Wolback VORTAC between the O'Neill, NE, VORTAC and the Grand Island, NE, VOR/DME, and the airway exclusion. As amended, the airway would extend between the Grand Island VOR/DME and the Mankato VORTAC.

T-288: T-288 currently extends between the Gillette, WY, VOR/DME and the Wolbach, NE, VORTAC. The FAA proposes to replace the Wolbach VORTAC route point with the ISTIQ, NE, waypoint (WP) that is located 3 nautical miles northeast of the Wolbach VORTAC on RNAV route T-413. Additionally, the Rapid City, SD, VORTAC latitude/longitude geographic coordinates are updated the match the FAA's National Airspace System Resource database information. As amended, the route would extend between the Gillette VOR/DME and the ISTIQ WP.

All NAVAID radials listed in the ATS route descriptions below are unchanged and stated in True degrees.

Jet Routes are published in paragraph 2004, VOR Federal airways are published in paragraph 6010(a), and United States Area Navigation Routes (T-routes) are published in paragraph 6011 of FAA Order JO 7400.11G, dated August 19, 2022, and effective September 15, 2022, which is incorporated by reference in 14 CFR 71.1. The ATS routes listed in this document would be published subsequently in FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 2004 Jet Routes.

* * * * *

J-10 [Amended]

From Los Angeles, CA; INT Los Angeles 083° and Twentynine Palms, CA, 269° radials; Twentynine Palms; INT Twentynine Palms 075° and Flagstaff, AZ, 251° radials; Flagstaff; Rattlesnake, NM; Blue Mesa, CO; Falcon, CO; to North Platte, NE. From Des Moines, IA; to Iowa City, IA.

* * * * *

J-84 [Amended]

From Oakland, CA; Linden, CA; Mina, NV; Delta, UT; Meeker, CO; to Sidney, NE. From Dubuque, IA; Northbrook, IL; to Danville, IL.

* * * * *

J-100 [Amended]

From Los Angeles, CA; Daggett, CA; Las Vegas, NV; INT of Las Vegas 046° and Bryce Canyon, UT, 240° radials; Bryce Canyon; Meeker, CO; to Sidney, NE. From Dubuque, IA; to Northbrook, IL.

* * * * *

J-128 [Amended]

From Los Angeles, CA; INT Los Angeles 083° and Peach Springs, AZ, 244° radials; Peach Springs; Tuba City, AZ; Blue Mesa, CO; Falcon, CO; to Hayes Center, NE. From Dubuque, IA; to Northbrook, IL.

* * * * *

J-144 [Amended]

From Des Moines, IA; to Dubuque, IA.

* * * * *

J-197 [Amended]

From Dove Creek, CO; Hugo, CO; to Goodland, KS.

* * * * *

Paragraph 6010(a) Domestic VOR Federal Airways.

* * * * *

V-172 [Amended]

From Columbus, NE; Omaha, IA; INT Omaha 066° and Newton, IA, 262° radials; Newton; Cedar Rapids, IA; Polo, IL; INT Polo 088° and DuPage, IL, 293° radials; to DuPage.

* * * * *

V-219 [Removed]

* * * * *

V-380 [Amended]

From Grand Island, NE; Hastings, NE; to Mankato, KS.

* * * * *

Paragraph 6011 United States Area Navigation Routes.

* * * * *

T-288 Gillette, WY (GCC) to ISTIQ, NE [Amended]
Gillette, WY (GCC) | VOR/DME | (Lat. 44°20′51.98″ N, long. 105°32′36.55″ W)
KARAS, WY | FIX | (Lat. 44°16′22.88″ N, long. 104°18′49.64″ W)
Rapid City, SD (RAP) | VORTAC | (Lat. 43°58′33.74″ N, long. 103°00′44.38″ W)
WNDED, SD | WP | (Lat. 43°19′14.00″ N, long. 101°32′19.00″ W)
Valentine, NE (VTN) | NDB | (Lat. 42°51′41.85″ N, long. 100°32′58.73″ W)
Ainsworth, NE (ANW) | VOR/DME | (Lat. 42°34′08.81″ N, long. 099°59′22.78″ W)
FESNT, NE | WP | (Lat. 42°03′57.00″ N, long. 099°17′18.00″ W)
ISTIQ, NE | WP | (Lat. 41°24′52.04″ N, long. 098°24′18.89″ W)

* * * * *

Issued in Washington, DC, on November 16, 2022.
Scott M. Rosenbloom,
Manager, Airspace Rules and Regulations.

[FR Doc. 2022-25418 Filed 11-21-22; 8:45 am]

BILLING CODE 4910-13-P